DEPARTMENT OF THE TREASURY

Agency Information Collection Activities; Submission for OMB Review; Comment Request; U.S. Treasury Auctions Submitter Agreement

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before October 23, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Bureau of the Fiscal Service (FS)

Title: U.S. Treasury Auctions Submitter Agreement.

OMB Control Number: 1530-0056.

Type of Review: Extension without change of a currently approved collection.

Abstract: Chapter 31 of Title 31 of the United States code authorizes the Secretary of the Treasury to issue United States obligations and to offer them for sale under such terms and conditions as the Secretary may prescribe. Submitters in U.S. Treasury auctions are required by Federal Regulation 31 CFR part 356.16(a) to have an agreement on file prior to submitting a computer tender in Treasury auctions. This information is only required of organizations that voluntarily choose to submit tenders directly in Treasury auctions.

Form: FS Form 5441.

Affected Public: Businesses or other for-profits.

Estimated Total Annual Burden Hours: 80.

Authority: 44 U.S.C. 3501 et seq.

Dated: September 18, 2017.
Spencer W. Clark,
Treasury PRA Clearance Officer.

[FR Doc. 2017-20185 Filed 9-21-17; 8:45 am]

BILLING CODE 4810-AS-P